DEPARTMENT OF AGRICULTURE

Office of the Secretary

7 CFR Part 1

[Docket No. USDA-2021-0009]

RIN 0503-AA74

Production or Disclosure of Official Information in Legal Proceedings

AGENCY: Office of the Secretary, USDA.

ACTION: Direct final rule; confirmation of effective date.

SUMMARY: On February 28, 2022, the U.S. Department of Agriculture published a direct final rule. The direct final rule notified the public of our intention to revise our regulations regarding the production or disclosure of official information in legal proceedings (referred to as Touhy regulations). We did not receive any substantive written adverse comments in response to the direct final rule.

DATES: The effective date of the direct final rule published February 28, 2022, at 87 FR 10925 is confirmed as April 29, 2022.

FOR FURTHER INFORMATION CONTACT: Karen Carrington Fletcher, Senior Counsel, Office of the General Counsel, USDA, 1400 Independence Ave. SW, Room 103-W, Washington, DC 20250; karen.fletcher@usda.gov; (202) 720-0944.

SUPPLEMENTARY INFORMATION: On February 28, 2022, the U.S. Department of Agriculture published a direct final rule. (87 FR 10925) The direct final rule notified the public of our intention to revise our regulations regarding the production or disclosure of official information in legal proceedings (referred to as Touhy regulations).

In the direct final rule, we stated that if we received no written adverse comments or written notice of intent to submit adverse comments within 30 days of publication of the direct final rule, the direct final rule would become effective 60 days following its publication.

During the comment period, we received three comments, two of which were submitted by the same commenter. These three comments suggested that the amended regulations had the potential to obstruct justice and therefore should be withdrawn. However, the comments provided no basis for that assertion or any details that would allow us to understand the commenters' rationale. Therefore, we have determined that the regulations should become effective as stated in the direct final rule.

Accordingly, we are confirming that the direct final rule published February 28, 2022, will become effective on April 29, 2022.

Authority: 5 U.S.C. 301, unless otherwise noted.

David Grahn,
Principal Deputy General Counsel, United States Department of Agriculture.

[FR Doc. 2022-08814 Filed 4-25-22; 8:45 am]

BILLING CODE 3410-90-P